DEPARTMENT OF EDUCATION

Extension of the Application Deadline Date for the Fiscal Year 2019 Statewide Longitudinal Data Systems Program

AGENCY: Institute of Education Sciences, Department of Education.

ACTION: Notice.

SUMMARY: The Institute of Education Sciences extends, for certain prospective eligible applicants described elsewhere in this notice, the deadline date for transmittal of applications for new awards for fiscal year (FY) 2019 under the Statewide Longitudinal Data Systems Program, Catalog of Federal Domestic Assistance (CFDA) number 84.372A. The Institute takes this action to allow more time for the preparation and submission of applications by prospective eligible applicants affected by Hurricane Dorian.

The extension of the application deadline date for this competition is intended to help eligible applicants that are located in an area for which the President has issued an emergency declaration related to Hurricane Dorian in Florida, Puerto Rico, North Carolina, South Carolina, and the U.S. Virgin Islands to compete fairly with other eligible applicants under this competition.

DATES: Deadline for Transmittal of Applications: September 26, 2019.

FOR FURTHER INFORMATION CONTACT: Nancy Sharkey at Nancy.Sharkey@ed.gov or (202) 245-7689.

If you use a telecommunications device for the deaf (TDD) or a text telephone (TTY), call the Federal Relay Service (FRS), toll free, at 1-800-877-8339.

SUPPLEMENTARY INFORMATION: On June 19, 2019, we published in the Federal Register (82 FR 24695) a notice inviting applications (NIA) for new awards for FY 2019 for the Statewide Longitudinal Data Systems Program. The application deadline in the NIA was September 17, 2019. We are extending the application deadline for this competition for applicants in affected areas in Florida, Puerto Rico, North Carolina, South Carolina, and the U.S. Virgin Islands in order to allow applicants more time to prepare and submit their applications.

Eligibility: The extension of the application deadline date in this notice applies to eligible applicants under the Statewide Longitudinal Data Systems Program, CFDA number 84.372A, that are located in an area for which the President has issued an emergency declaration (see https://www.fema.gov/disasters/), in Florida (FEMA Disaster designation 3419), Puerto Rico (FEMA Disaster designation 3417), North Carolina (FEMA Disaster designation 3423), South Carolina (FEMA Disaster designation 3421), and the U.S. Virgin Islands (FEMA Disaster designation 3418). Georgia is ineligible for this extension because, even though some portions of the State have been granted an ongoing FEMA emergency designation, the SEA is not located in one of the 12 “designated areas” covered in Georgia under FEMA Disaster designation 3422.

In accordance with the NIA, eligible applicants for this competition are limited to State educational agencies (SEAs). An SEA is the agency primarily responsible for the State supervision of elementary schools and secondary schools. See 20 U.S.C. 9601 (which incorporates by reference the definition of SEA in section 8101 of the Elementary and Secondary Education Act of 1965, as amended (ESEA), 20 U.S.C. 7801). The SEAs of the 50 States, the District of Columbia, the Commonwealth of Puerto Rico, the United States Virgin Islands, American Samoa, Guam, and the Commonwealth of the Northern Mariana Islands are eligible.

Note: All information in the NIA remains the same, except for the deadline date for these five SEAs.

Program Authority: 20 U.S.C. 9607.

Accessible Format: Individuals with disabilities can obtain this document and a copy of the application package in an accessible format (e.g., braille, large print, audiotape, or compact disc) on request to the person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

[FR Doc. 2019-20113 Filed 9-16-19; 8:45 am]

BILLING CODE 4000-01-P